DEPARTMENT OF ENERGY

Federal Energy Regulatory Commission

[Project No. 2246-058]

Yuba County Water Agency; Notice of Dispute Resolution Process Schedule; Panel Meeting, and Technical Conference

On October 20, 2011, the National Oceanic and Atmospheric Administration's, National Marine Fisheries Service (NMFS), filed a Notice to initiate a formal study dispute resolution process, pursuant to 18 CFR 5.14, in the relicensing proceeding for the Yuba County Water Agency's (YCWA) Yuba River Hydroelectric Project No. 2246. NMFS disputes the treatment of several of its study requests, filed on March 7, 2011, in the Commission's study plan determination, issued on September 30, 2011. NMFS specifically identifies study requests one through six and study request eight as the disputed components of its, March 7, 2011 filing. In its study requests one through six NMFS requested studies of the effects of project and related activities on: (1) Fish passage for anadromous fish; (2) hydrology for anadromous fish; (3) water temperatures for anadromous fish migration, holding, spawning, and rearing needs; (4) coarse substrate for anadromous fish: sediment supply, transport, and storage; (5) large wood and riparian habitat for anadromous fish; and (6) loss of marine-derived nutrients in the Yuba River, respectively. In study request eight, NMFS requested a study of, “anadromous fish ecosystem effects analysis: synthesis of direct, indirect, and cumulative effects of the project and related facilities on anadromous fish.”

In its October 20, 2011 filing, NMFS designated David K. White as its dispute resolution panel member. On October 25, 2011, Commission staff designated Stephen P. Bowler to serve in the Commission staff role of dispute resolution panel chair. From an established list of potential third party panelists, Mr. Bowler and Mr. White selected Mr. Richard E. Craven and requested that he serve on the panel. Mr. Craven agreed to serve and the panel convened on November 7, 2011. Mr. Craven's statement certifying that he has no conflict of interest, which also summarizes his qualifications, is attached. None of the three panelists have been involved previously in the Yuba River Hydroelectric Project relicensing proceeding.

The panel will hold an all-day technical conference on the disputed studies on November 30, 2011. The conference will be held in Sacramento, CA. Further details will be supplied in a future notice. The purpose of the technical conference is for the disputing agency, the applicant, and the Commission to provide the panel with additional information necessary to evaluate the disputed studies. All local, state, and federal agencies, Indian tribes, and other interested parties are invited to attend the meeting as observers. The panel may also request information or clarification on written submissions as necessary to understand the matters in dispute. The panel will limit all input that it receives to the specific studies or information in dispute and will focus on the applicability of such studies or information to the study criteria stipulated in 18 CFR 5.9(b). If the number of participants wishing to speak creates time constraints, the panel may, at its discretion, limit the speaking time for each participant.

The process plan for dispute resolution is as follows:

Responsible party | Pre-filing milestone | Date | FERC regulation
NMFS | Disputes filed | 10/20/2011 | 5.14(a).
Dispute Panel | Third Dispute Panel Member Selected | 11/4/2011 | 5.14(d)(3).
Dispute Panel | Dispute Resolution Panel Convened | 11/7/2011 | 5.14(d).
YCWA | Applicant Comments on Study Disputes Due | 11/14/2011 | 5.14(i).
FERC | Notice of Dispute Resolution Panel Technical Conference | 11/9/2011 (with details on or before 11/16/2011) | Guidance.
Dispute Panel | Dispute Resolution Panel Technical Conference | 11/30/2011 | 5.14(j).
Dispute Panel | Dispute Resolution Panel Findings Issued | 12/9/2011 | 5.14(k).
FERC | Director's Study Dispute Determination | 12/29/2011 | 5.14(l).

For more information, please contact Stephen Bowler, the dispute panel chair, at stephen.bowler@ferc.gov or (202) 502-6861.

Dated: November 9, 2011.
Kimberly D. Bose,
Secretary.

BILLING CODE 6717-01-P

[FR Doc. 2011-29549 Filed 11-15-11; 8:45 am]

BILLING CODE 6717-01-C